DEPARTMENT OF HOUSING AND URBAN DEVELOPMENT

[Docket No. FR-6525-N-01]

Announcement of Funding Awards

AGENCY: Office of Chief Financial Officer, HUD.

ACTION: Notice.

SUMMARY: In accordance with section 102(a)(4)(C) of the Department of Housing and Urban Development Reform Act of 1989, this announcement notifies the public of funding decisions made by the Department in competitions for funding under the Notices of Funding Opportunity (NOFOs) and Notices for the following program(s): Fiscal Year 2023 Continuum of Care, FY23 Notice of Funding Opportunity for the Department's FY23 Homeownership Initiative Grant, FY23 Increasing the Supply of Affordable Housing through Off-Site Construction and Pro-Housing Reforms Research Grant Program, FY23 Comprehensive Housing Counseling, FY23 Choice Neighborhoods Implementation Grants, FY23 ICDBG-Single Purpose, FY23 ICDBG- Imminent Threat (IT) Grant, FY22 Resident Opportunity and Self-Sufficiency Service Coordinator Program (ROSS), and FY23 ROSS.

FOR FURTHER INFORMATION CONTACT: Neba Funiba, Acting Director, Grants Management and Oversight, Office of the Chief Financial Officer (Systems), Grants Management and Oversight or email at AskGMO@hud.gov or the contact person listed in each appendix. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD posted FY23 NOFO Continuum of Care (COC) Grant Program on grants.gov July 6, 2023, (FR-6700-N-25). The competition closed on September 28, 2023. HUD rated and selected for funding based on selection criteria contained in the NOFO. This competition awarded $3,136,946,462 to 6650 recipient to promote a community-wide commitment to the goal of ending homelessness; to provide funding for efforts by nonprofit providers, states, Indian Tribes or tribally designated housing entities (as defined in section 4 of the Native American Housing Assistance and Self-Determination Act of 1996 (25 U.S.C. 4103) (TDHEs), and local governments to quickly rehouse homeless individuals, families, persons fleeing domestic violence, dating violence, sexual assault, and stalking, and youth while minimizing the trauma and dislocation caused by homelessness; to promote access to and effective utilization of mainstream programs by homeless individuals and families; and to optimize self-sufficiency among those experiencing homelessness.

HUD posted FY23 Homeownership Initiative Grant on grants.gov March 5, 2024 (FR-6700-N-90). The competition closed on April 9, 2024. HUD rated and selected for funding based on selection criteria contained in the NOFO. This competition awarded $10,000,000 to 23 recipients to support HUD-approved housing counseling agencies to provide housing counseling that results in home purchase, mortgage origination, and preservation of ownership.

HUD posted FY23 Increasing the Supply of Affordable Housing through Off-Site Construction and Pro-Housing Reforms Research Grant Program on grants.gov June 15, 2023 (FR-6700-N-92). The competition closed on August 1, 2023. HUD rated and selected for funding based on selection criteria contained in the NOFO. This competition awarded $2,998,999 to 10 recipients to provide: (1) to assess the potential for off-site construction methods to increase housing supply, lower the cost of construction and/or reduce housing expenses for low- and moderate-income owners and renters; and (2) to study how reforms to local zoning and other land-use regulations can increase the supply of quality, affordable housing and expand housing choices and opportunities for low- and moderate-income households.

HUD posted FY23 Comprehensive Housing Counseling Grant Program on grants.gov January 9, 2024 (FR-6700-N-33). The competition closed on February 8, 2024. HUD rated and selected for funding based on selection criteria contained in the NOFO. This competition awarded $39,900,000 to 165 recipients to support HUD-approved housing counseling agencies to help individuals and families to avoid eviction or foreclosure or to make more informed homebuying and rental choices.

HUD posted the FY23 Choice Neighborhoods Implementation Grant Program on grants.gov September 6, 2023 (FR-6700-N-34). The competition closed on March 4, 2024. HUD rated and selected for funding based on selection criteria contained in the NOFO. This competition awarded $325,093,615 ($305,593,615 new Implementation Grants and $19,500,000 Supplemental Grants) to 15 (7 new Implementation Grants and 8 Supplemental Grants) recipients to support the redevelopment of severely distressed public and HUD-assisted housing. Grantees leverage significant public and private dollars to support locally driven strategies that address struggling neighborhoods with distressed public or HUD-assisted housing through a comprehensive approach to neighborhood transformation. Local leaders, residents, and stakeholders, such as public housing authorities, cities, schools, police, business owners, nonprofits, and private developers come together to create and implement a plan that revitalizes distressed HUD housing and addresses the challenges in the surrounding neighborhood.

HUD posted FY23 ICDBG- Single Purpose on grants.gov June 22, 2023 (FR-6600-N-23). The competition closed on October 5, 2023. HUD rated and selected for funding based on selection criteria contained in the NOFO. This competition awarded $69,782,485 to 38 recipients to provide grants to Indian tribes and Alaska Native villages for affordable housing and community development activities.

HUD made awards for the ICDBG-IT program throughout FY23 in accordance with Program Guidance 2018-04. HUD ensured compliance with program requirements prior to award, in accordance with the Program Guidance. The program awarded $4,765,282 to 7 to recipients on a first-come, first-served basis to address imminent threats on Indian reservations, in Indian communities, and in Native Alaskan villages.

HUD posted FY22 ROSS NOFO on grants.gov May 18, 2022 (FR-6600-N-05). The competition closed on July 18, 2022. HUD rated and selected for funding based on selection criteria contained in the NOFO. This competition awarded $29,982,044 to 111 recipients to assist residents of Public and Indian Housing make progress towards economic and housing self-sufficiency by addressing educational, professional, and health challenges.

HUD posted FY23 ROSS NOFO on grants.gov October 16, 2023 (FR-6700-N-05). The competition closed on December 18, 2023. HUD rated and selected for funding based on selection criteria contained in the NOFO. This competition awarded $39,126,212.87 to 141 recipients to assist residents of Public and Indian Housing make progress towards economic and housing self-sufficiency by addressing educational, professional, and challenges.

In accordance with section 102(a)(4)(C) of the Department of Housing and Urban Development Reform Act of 1989 (103 Stat. 1987, 42 U.S.C. 3545(a)(4)(C)), the Department is publishing the awardees and the amounts of the awards in Appendices A thru I of this document.

Neba Funiba,
Acting Director, Grants Management and Oversight, Office of the Chief Financial Officer.

BILLING CODE 4210-67-P

[FR Doc. 2025-15585 Filed 8-14-25; 8:45 am]

BILLING CODE 4210-67-C